FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Anchor Group Inc dba Anchor Logistics (NVO), 1395 Bradbury Road, San Marino, CA 91108, Officers: Chao-Yi Kuo, Vice President (QI), Yong Chen, President, Application Type: New NVO License.

Armada Services, LLC (NVO & OFF), 5520 Research Park Drive, Suite 100, Baltimore, MD 21228, Officer: Katrina N. Dill, Managing Member (QI), Application Type: Name Change to Premium Logistics North America, LLC and QI Change.

DJS International Services, Inc. (NVO & OFF), 4215 Gateway Drive, Suite 100, Colleyville, TX 76034, Officers: Paul F. Sekin, Vice President (QI), David M. Meyer, Vice President (QI), Application Type: Additional QI.

Exel Global Logistics Inc. (NVO & OFF), 22879 Glenn Drive, Suite 100, Sterling, VA 20164, Officers: SueAnn Fulton, President (QI), Cheryl Stewart, Director, Application Type: QI Change.

Goldmar, Corp. (NVO & OFF), 5220 NW 72nd Avenue, Suite #3, Miami, FL 33166, Officers: Enrique J. Chia, Vice President (QI), Valerie Chia, President. Application Type: New NVO & OFF License.

ICA Logistics, Inc. (NVO & OFF), 5803 Sovereign Drive, Suite 216, Houston, TX 77036, Officers: Qadir A. Wakkiluddin, Secretary (QI), Mohammed N. Aliyu, Executive Director, Application Type: New NVO & OFF License.

Inter-American Movers and Forwarders, LLC (OFF), 3032 NW 72nd Avenue, Miami, FL 33122, Officers: Alejandro Jerez, Managing Member (QI), Marcia Bermudez, Member, Application Type: QI Change.

M Forwarder, LLC (NVO & OFF), 161-15 Rockaway Blvd., Suite 209, Jamaica, NY 11434, Officer: Rick C.Y. Ma, Director (QI), Application Type: QI Change.

Oceanika Express Inc. (NVO), 8401 NW 90th Street, Medley, FL 33166, Officers: Benigno Martin, CEO (QI), Luis E. Mendoza, Director, Application Type: New NVO License.

Pinnacle International LLC (NVO & OFF), 115 Collington Place, Madison, AL 35758, Officers: Johnny M. Summers, Manager (QI), John E. Arnold, Manager, Application Type: New NVO & OFF License.

Sapphire Worldwide LLC (NVO & OFF), 5399 SW 155 Avenue, Miramar, FL 33027, Officer: Yolanda Vila, Managing Member (QI), Application Type: New NVO & OFF License.

By the Commission.
Dated: August 1, 2014.
Rachel E. Dickon,
Assistant Secretary.

[FR Doc. 2014-18571 Filed 8-5-14; 8:45 am]

BILLING CODE 6730-01-P